DEPARTMENT OF VETERANS AFFAIRS

VA Homeless Providers Grant and Per Diem Program

AGENCY: Department of Veterans Affairs.

ACTION: Notice of Funding Availability (NOFA).

SUMMARY: The Department of Veterans Affairs (VA) announces the availability of 1-year renewal funding for the 16 currently-operational fiscal year (FY) 2016 VA Homeless Providers Grant and Per Diem (GPD) Program Special Need Grant recipients and their collaborative VA Special Need partners (as applicable), to enable them to submit renewal applications for assistance under the Special Need Grant component of VA's Homeless Providers GPD Program. The focus of this NOFA is to encourage applicants to continue to deliver services to the homeless special-need Veteran population. This NOFA contains information concerning the program, application process, and amount of funding available.

DATES: An original, completed, signed, and dated renewal application and associated documents for assistance under VA's GPD Program must be received by the GPD Program Office by 4:00 p.m. Eastern Daylight Time on June 29, 2017.

FOR FURTHER INFORMATION CONTACT: Jeffery L. Quarles, Director, VA Homeless Providers Grant and Per Diem Program, Department of Veterans Affairs, 10770 N. 46th Street, Suite C-200, Tampa, FL 33617, (877) 332-0334 (this is a toll-free number).

SUPPLEMENTARY INFORMATION: This NOFA announces the availability of funds to provide 1-year funding assistance in FY 2018 under VA's Homeless Providers GPD Program for the 16 operational GPD Special Need recipients and their collaborative VA partners (as applicable). Eligible applicants may obtain grant assistance to cover additional operational costs that would not otherwise be incurred, but for the fact that the recipient is providing supportive housing beds and services for the following homeless special-needs Veteran population groups: Women, Frail Elderly, Chronically Mentally Ill, or Individuals Who Have Care of Minor Dependents. Funding applied for under this NOFA may be used for the provision of services and operational costs to facilitate the following for each targeted group:

1. Women:

a. Ensure transportation for women, especially for health care and educational needs; and

b. Address safety and security issues including segregation from other program participants if deemed appropriate.

2. Frail Elderly:

a. Ensure the safety of the residents in the facility, including preventing harm and exploitation;

b. Ensure opportunities to keep residents mentally and physically agile to the fullest extent through incorporation of structured activities, physical activity, and social engagement within the program and in the community;

c. Provide opportunities for participants to address life transitional, separation, and/or loss issues;

d. Provide access to assistance devices such as walkers, grippers, or other devices necessary for optimal functioning;

e. Ensure adequate supervision including monitoring of medication and oversight of medication compliance; and

f. Provide opportunities for participants, either directly or through referral, for other services particularly relevant for the Frail Elderly population group, including services or programs addressing emotional, social, spiritual, and generative needs.

3. Chronically Mentally Ill:

a. Help participants join in and engage with the community;

b. Facilitate reintegration with the community and provide services that may optimize reintegration, such as life-skills education, recreational activities, and follow-up case management;

c. Ensure that participants have opportunities and services for re-establishing relationships with family;

d. Ensure adequate supervision, including monitoring of medication and oversight of medication compliance; and

e. Provide opportunities for participants, either directly or through referral, to obtain other services particularly relevant for a chronically mentally ill population, such as vocational development, benefits management, fiduciary or money management services, medication compliance, and medication education.

4. Individuals Who Have Care of Minor Dependents:

a. Ensure transportation for individuals and their minor dependents, especially for health care and educational needs;

b. Provide directly or offer referrals for adequate and safe child care;

c. Ensure children's health care needs are met, especially age-appropriate wellness visits and immunizations; and

d. Address safety and security issues, including segregation from other program participants if deemed appropriate.

Authority: Homeless Veterans Comprehensive Assistance Act of 2001, Public Law 107-95, 5, codified as amended by Public Law 112-154, at 38 U.S.C. 2011, 2012, 2061, and in regulation at 38 CFR 61. A full copy of the regulations governing the GPD Program is available at the GPD Web site at http://www.va.gov/homeless/gpd.asp.

Definitions: Definitions of key terms relating to these populations are contained in 38 CFR 61.1 Definitions. Eligible applicants should review these definitions to ensure their proposed populations meet the specific requirements.

Funding Priorities: None.

Allocation Of Funds: Approximately $5 million is available for the current Special Need grant component of VA's Homeless Providers GPD Program. Special Need payment will be the lesser of:

1. One hundred percent of the daily cost of care estimated by the Special Need recipient for furnishing services to homeless Veterans with special needs that the Special Need recipient certifies to be correct, minus any other sources of income; or

2. Two times the current VA State Home Program per diem rate for domiciliary care.

Special Need awards are subject to FY 2018 funds availability, the recipient meeting the performance goals as stated in the grant application, statutory and regulatory requirements, and annual inspections. Applicants should ensure their funding requests and operational costs are based on the 12-month period above and should be approximately in line with prior-year expenditures. Requests cannot exceed the amount obligated under the FY 2016 award. Applicants should note in their application that unexpended funding from FY 2016 will be de-obligated.

Funding Actions: Conditionally-selected applicants may be asked to submit additional information under to confirm or clarify information provided in the application, and will be notified of the deadline to submit such information. If an applicant is unable to meet any conditions for grant award within the specified time frame, VA reserves the right to not award funds and to use the funds available for other Special Need applicants. Following receipt and confirmation that all information is accurate and in acceptable form, applicants will execute an agreement with VA in accordance with 38 CFR 61.61.

Grant Award Period: Awardees will have a maximum award of one year beginning on October 1, 2017, and ending on September 30, 2018, to utilize the Special Need funding. Funds unexpended after the September 30, 2018, deadline will be de-obligated.

Funding Restrictions: No part of a Special Need grant may be used for any purpose that would significantly change the scope of the specific GPD project for which a capital GPD was awarded. As a part of the review process, VA will review the original project and subsequent approved program changes of the previous FY 2016 Special Need applications to ensure significant scope changes have not occurred and that other homeless Veteran populations have not been displaced. Additionally, Special Need funding may not be used for capital improvements or to purchase vehicles or real property. However, the leasing of vehicles or real property may be acceptable, and questions regarding acceptability should be directed to VA's National GPD Program Office at the number listed above in CONTACT INFORMATION. Changes to the Special Need population the applicant currently serves will not be allowed, and applicants may not receive Special Need funding to replace funds provided by any Federal, state or local Government agency or program to assist homeless persons.

Eligibility Information: Eligible applicants must be a currently-operational FY 2016 VA Homeless Providers GPD Program Special Need Grant recipient with or without a collaborative VA Special Need partner. Applicants that were not funded under the VA Homeless Providers GPD Program NOFA as published in the Federal Register on December 23, 2016, 81 FR 94487-94494, are ineligible for an award under this NOFA as the applicant must have an operational VA Homeless Providers GPD grant on October 1, 2017, in order to receive Special Need funding under this availability. Furthermore, if the applicant currently has a collaborative project and its VA partner no longer wishes to continue, the applicant is not eligible for an award under this NOFA.

Cost Sharing or Matching: None.

Application Requirements and Submission Information

Content and Form of Application

Applicants should ensure they include all required documents in their application and carefully follow the format described below. Submission of an incorrect, incomplete, or incorrectly formatted application package will result in the application being rejected at the beginning of the process.

Application Documentation Required

Applicants must submit a letter on their organization's letterhead stating their intent to apply for renewal funding and agreement for VA to evaluate their previously awarded FY 2016 Special Need application for scoring purposes. In addition, the letter must state the model (see listing below) to which that application will be linked and that the applicant agrees, as a condition of funding under this NOFA, that they will provide the services as outlined in that application, along with any VA-approved changes in scope, and that the applicant's FY 2016 required forms and certifications still apply for the period of this award. The models include Bridge Housing, Low Demand, Clinical Treatment, Hospital to Housing, or Service Intensive Transitional Housing.

Performance Goals

Applicants must submit documentation, as evidenced by their last VA project inspection, of meeting the performance goals stated in their FY 2016 original grant Special Need application.

Letter from VA Collaborative Partner (If Applicable)

If the FY 2016 Special Need grant was a collaborative grant, the applicant must submit an updated letter of commitment or an updated Memorandum of Agreement (MOA) from the VA collaborative partner stating that VA will continue to meet its objectives or provide its duties as outlined in the original MOA in FY 2016.

Other Submission Requirements: None.

Submission Deadline and Delivery: An original signed and dated application package, including all required documents, must be received in the GPD Program Office, VA Homeless Providers GPD Program Office, 10770 N. 46th Street, Suite C-200, Tampa, FL 33617; by 4:00 p.m. Eastern Daylight Time on June 29, 2017. Applications must be physically delivered (e.g., in person or via United States Postal Service, FedEx, United Parcel Service, or any other type of courier). The VA GPD Program Office staff will accept the application and will date stamp it immediately at the time of arrival. This is the date and time that will determine if the deadline is met for those types of delivery. Applications may not be sent by facsimile. In the interest of fairness to all competing applicants, this deadline is firm as to date and time, and VA will treat any application that is received after the deadline as ineligible for consideration. Applicants should take this firm deadline into account and make early submission of their materials to avoid any risk of loss of eligibility as a result of unanticipated delays or other delivery-related problems. Applications must arrive as a complete package (see Application Requirements above). Materials arriving separately will not be included in the application package for consideration and may result in the application being rejected or not funded.

Rating Criteria for Special Need Grants: Rating criteria may be found at 38 CFR 61.13 & 61.32.

Review and Selection Process: The VA review and selection process may be found at 38 CFR 61.44. Selections will be made based on criteria described in the FY 2016 application and additional information as specified in this NOFA.

Award Notice: Although subject to change, the GPD Program Office expects to announce grant awards during the late fourth quarter of FY 2017 (September). The initial announcement will be made via news release which will be posted on VA's National GPD Program Web site at www.va.gov/homeless/gpd.asp. Following the initial announcement, the GPD Office will mail notification letters to grant recipients. Applicants who are not selected will be mailed a declination letter within two weeks of the initial announcement.

Administrative and National Policy: VA places great emphasis on responsibility and accountability, and has procedures in place to monitor services provided to homeless Veterans and outcomes associated with the services provided in grant- and per diem-funded programs. Applicants should be aware of the following:

• Awardees will be required to support their request for payments with adequate fiscal documentation as to project income and expenses and in the case of per diem payments, income and expenses.

• All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

• Each program receiving Special Need funding will have a liaison appointed from a nearby VA medical facility to provide oversight and monitor services provided to homeless Veterans in the program.

• Monitoring will include, at a minimum, a quarterly review of each per diem program's progress toward meeting performance goals, including the applicant's internal goals and objectives in helping Veterans attain housing stability, adequate income support, and self-sufficiency as identified in each per diem program's original application. Monitoring will also include a review of the agency's income and expenses as they relate to this project to ensure payment is accurate.

Each funded program will participate in VA's national program monitoring and evaluation as these monitoring procedures will be used to determine successful accomplishment of these housing outcomes for each per diem-funded program.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on May 18, 2017, for publication.

Approved: May 18, 2017.
Jeffrey Martin,
Office Program Manager, Office of Regulation Policy & Management, Office of the Secretary, Department of Veterans Affairs.

[FR Doc. 2017-10657 Filed 5-23-17; 8:45 am]

BILLING CODE 8320-01-P